DEPARTMENT OF ENERGY

Federal Energy Regulatory Commission

[Docket No. EC00-107.000, et al.]

Merchant Energy Group of the Americas, Inc., et al.; Electric Rate and Corporate Regulation Filings

June 28, 2000.

Take notice that the following filings have been made with the Commission:

1. Merchant Energy Group of the Americas, Inc.

[Docket No. EC00-107-000]

Take notice that on June 23, 2000, Merchant Energy Group of the Americas, Inc. (MEGA) tendered for filing an application pursuant to section 203 of the Federal Power Act for authorization of a transaction whereby MEGA will assign certain of its wholesale power sales agreements and associated books and records to Morgan Stanley Capital Group Inc. (Morgan Stanley). MEGA requests waiver of the Commission's filing requirements to permit it to file a redacted portion of Exhibit H and pursuant to 18 CFR 388.112 of the Commission's regulations, on behalf of itself and Morgan Stanley, requests privileged treatment of the remainder of Exhibit H.

Comment date: July 24, 2000, in accordance with Standard Paragraph E at the end of this notice.

2. Public Service Company of Colorado

[Docket No. EC00-108-000]

Take notice that on June 23, 2000, Public Service Company of Colorado (PSCo) filed an application under Section 203 of the Federal Power Act for authorization to dispose of transmission facilities. The specific facilities addressed in the application are two 4/115 kV generation step-up transformers interconnecting the powerhouse of PSCo's Boulder Canyon Hydroelectric Project (Boulder Project) to PSCo's transmission system. In its application, PSCo states that it is transferring these facilities to the City of Boulder, Colorado, as part of its proposed sale of the Boulder Project to that City.

Comment date: July 24, 2000, in accordance with Standard Paragraph E at the end of this notice.

3. Keystone Lessor Genco LLC

[Docket No. EG00-182-000]

Take notice that on June 26, 2000, Keystone Lessor Genco LLC (Keystone Lessor or Applicant) tendered for filing an application for a determination of exempt wholesale generator status, pursuant to Section 32(a)(1) of the Public Utility Holding Company Act of 1935, as amended, (PUHCA), 15 U.S.C. 79z-5a (1994), and Subchapter T, Part 365 of the regulations of the Federal Energy Regulatory Commission (Commission), 18 CFR part 365.

Keystone Lessor is a Delaware limited liability company. Keystone Lessor will own an undivided interest in a generating facility in Pennsylvania, which is an eligible facility. Keystone Lessor will lease under a net lease its undivided interest in the eligible facility to Reliant Energy Mid-Atlantic Power Holdings, LLC, an exempt wholesale generator.

Comment date: July 20, 2000, in accordance with Standard Paragraph E at the end of this notice. The Commission will limit its consideration of comments to those that concern the adequacy or accuracy of the application.

4. Shawville Lessor Genco LLC

[Docket No. EG00-183-000]

Take notice that on June 26, 2000, Shawville Lessor Genco LLC (Shawville Lessor or Applicant) tendered for filing an application for a determination of exempt wholesale generator status, pursuant to Section 32(a)(1) of the Public Utility Holding Company Act of 1935, as amended, (PUHCA), 15 U.S.C. 79z-5a (1994), and Subchapter T, Part 365 of the regulations of the Federal Energy Regulatory Commission (Commission), 18 CFR part 365.

Shawville Lessor is a Delaware limited liability company. Shawville Lessor will own an interest in an eligible facility in Pennsylvania. Shawville Lessor will lease under a net lease its interest in the eligible facility to Reliant Energy Mid-Atlantic Power Holdings, LLC, an exempt wholesale generator.

Comment date: July 20, 2000, in accordance with Standard Paragraph E at the end of this notice.

5. Conemaugh Lessor Genco LLC

[Docket No. EG00-184-000]

Take notice that on June 26, 2000, Conemaugh Lessor Genco LLC (Conemaugh Lessor or Applicant) tendered for filing an application for a determination of exempt wholesale generator status, pursuant to Section 32(a)(1) of the Public Utility Holding Company Act of 1935, as amended, (PUHCA), 15 U.S.C. 79z-5a (1994), and Subchapter T, Part 365 of the regulations of the Federal Energy Regulatory Commission (Commission), 18 CFR part 365.

Conemaugh Lessor is a Delaware limited liability company. Conemaugh Lessor will own an undivided interest in a generating facility in Pennsylvania, which is an eligible facility. Conemaugh Lessor will lease under a net lease its undivided interest in the eligible facility to Reliant Energy Mid-Atlantic Power Holdings, LLC, an exempt wholesale generator.

Comment date: July 20, 2000, in accordance with Standard Paragraph E at the end of this notice.

6. El Paso Electric Company, El Paso Electric Generating Company, El Paso Transmission and Distribution Company

[Docket No. ES00-46-000]

Take notice that on June 16, 2000, El Paso Electric Company, El Paso Electric Generating Company, and El Paso Transmission and Distribution Company (Applicants) submitted an application pursuant to section 204 of the Federal Power Act seeking authorization for El Paso Transmission and Distribution Company to issue 1,000 shares of common stock, assume First Mortgage Bonds, and to engage in certain other securities transactions necessary to effectuate a corporate reorganization.

Applicants also request a waiver from the Commission's competitive bidding and negotiated placement requirements of 18 CFR 34.2.

Comment date: July 19, 2000, in accordance with Standard Paragraph E at the end of this notice.

7. Entergy Services, Inc.

[Docket No. ER00-2132-001]

Take notice that on June 22, 2000, Entergy Services, Inc., on behalf of Entergy Gulf States, Inc., tendered for filing a compliance Interconnection and Operating Agreement with Calcasieu Power, LLC, in accordance with the Commission's order in Entergy Services, Inc., 91 FERC ¶ 61,234 (2000).

Comment date: July 13, 2000, in accordance with Standard Paragraph E at the end of this notice.

8. Allegheny Energy Service Corporation, on behalf of Allegheny Energy Supply Company, LLC

[Docket Nos. ER00-2645-000, ER00-2651-000]

Take notice that on June 22, 2000, Allegheny Energy Service Corporation on behalf of Allegheny Energy Supply Company, LLC tendered for filing a request to withdraw Market Rate Tariff Service Agreement Nos. 68 and 69 filed at the above dockets.

Copies of the filing have been provided to the Public Utilities Commission of Ohio, the Pennsylvania Public Utility Commission, the Maryland Public Service Commission, the Virginia State Corporation Commission, the West Virginia Public Service Commission, and all parties of record.

Comment date: July 13, 2000, in accordance with Standard Paragraph E at the end of this notice.

9. Virginia Electric and Power Company

[Docket No. ER00-2922-000]

Take notice that on June 22, 2000, Virginia Electric and Power Company (Virginia Power), tendered for filing a Letter of Termination of the Service Agreement between Virginia Electric and Power Company and K N Marketing, Inc. dated July 8, 1996 and approved by the FERC in a letter order on August 23, 1996 in Docket No. ER96-2511-000.

Virginia Power requests that the Letter of Termination be designated as First Revised Service Agreement No. 65 under FERC Electric Tariff, Original Volume No. 4. Virginia Power also respectfully requests an effective date of the termination of the Service Agreement of August 22, 2000, which is sixty (60) days from the date of filing of the Letter of Termination.

Copies of the filing were served upon K N Marketing, Inc., the Virginia State Corporation Commission and the North Carolina Utilities Commission.

Comment date: July 13, 2000, in accordance with Standard Paragraph E at the end of this notice.

10. Pacific Gas and Electric Company

[Docket No. ER00-2923-000]

Take notice that on June 22, 2000, Pacific Gas and Electric Company (PGandE Company), tendered for filing the Emergency Service Agreement between Pacific Gas and Electric Company and City and County of San Francisco (CCSF). This Agreement is intended to facilitate CCSF's supplying of excess energy to the California Independent System Operator (CAISO) to support reliability of the electric grid in California this summer. Under this Agreement, PGandE Company may relay information from CCSF to the CAISO regarding availability of excess energy ahead of the operating day and pass through payments from CAISO to CCSF. PGandE Company has requested certain waivers.

Copies of this filing have been served upon City, the CAISO, the California Electricity Oversight Board, the CPUC and the Service List for Docket No. EL00-75-000.

Comment date: July 13, 2000, in accordance with Standard Paragraph E at the end of this notice.

11. Green Valley Hydro, LLC

[Docket No. ER00-2924-000]

Take notice that on June 22, 2000, Green Valley Hydro, LLC (Green Valley), tendered for filing a market rate tariff of general applicability under which it proposes to sell capacity and energy at market-based rates all as more fully described in the application.

Green Valley requests an effective date no later than July 1, 2000.

Copies of the filing have been provided to the Public Utilities Commission of Ohio, the Pennsylvania Public Utility Commission, the Maryland Public Service Commission, the Virginia State Corporation Commission, the West Virginia Public Service Commission, and all parties of record.

Comment date: July 13, 2000, in accordance with Standard Paragraph E at the end of this notice.

12. Commonwealth Edison Company

[Docket No. ER00-2925-000]

Take notice that on June 22, 2000, Commonwealth Edison Company (ComEd), tendered for filing four Non-Firm Transmission Service Agreements with LSP-Nelson Energy, LLC (LSPN), LSP-Kendall Energy, LLC (LSPK), Split Rock Energy LLC (SRE), and OGE Energy Resources, Inc. (OGE), and eight Short-Term Firm Transmission Service Agreements with LSPN, LSPK, SRE, OGE, Delmarva Power and Light Company (DPL), Northern Indiana Public Service Company (NIPS), Constellation Power Source, Inc. (CPS), and MidAmerican Energy Company (MEC) under the terms of ComEd's Open Access Transmission Tariff (OATT).

ComEd requests that the Commission substitute the Agreement with NIPS for the unexecuted agreement previously filed under the OATT in Docket No. ER00-2564-000 on May 22, 2000. ComEd requests that the Commission substitute the Agreement with CPS for the unexecuted agreement previously filed under the OATT in Docket No. ER00-2260-000 on April 21, 2000. ComEd requests that the Commission substitute the Agreement with MEC for the unexecuted agreement previously filed under the OATT in Docket No. ER00-2536-000 on May 18, 2000.

ComEd requests an effective date of June 22, 2000, for the non-firm agreements with LSPN, LSPK and SRE. ComEd requests an effective date of April 10, 2000, for the non-firm agreement with OGE to coincide with the first day of service to OGE under this Agreement. ComEd requests an effective date of June 22, 2000 for the short-term firm agreements with LSPN, LSPK, SRE, and OGE, and an effective date of June 1, 2000, for the agreement with DPL, and accordingly, seeks waiver of the Commission's notice requirements.

Comment date: July 13, 2000, in accordance with Standard Paragraph E at the end of this notice.

13. Kentucky Utilities Company/Louisville Gas and Electric Company

[Docket No. ER00-2926-000]

Take notice that on June 22, 2000, Kentucky Utilities Company/Louisville Gas and Electric Company (KU/LG&E), 220 West Main Street, Louisville, Kentucky 40202, tendered for filing with the Commission a notice that KU/LG&E will explicitly incorporate the revised transmission loading relief (TLR) procedures developed by the North American Electric Reliability Council (NERC) and approved by the Commission in Docket No. ER00-1666-000, as part of its Open Access Transmission Tariff and Joint Open Access Transmission Tariff.

Comment date: July 13, 2000, in accordance with Standard Paragraph E at the end of this notice.

14. PJM Interconnection, L.L.C.

[Docket No. ER00-2927-000]

Take notice that on June 22, 2000, PJM Interconnection, L.L.C. (PJM), tendered for filing changes to the PJM Open Access Transmission Tariff (PJM Tariff) and the Amended and Restated Operating Agreement of PJM Interconnection, L.L.C., modifying how PJM will distribute accumulated excess congestion charges.

Copies of this filing were served upon all members of PJM and each state electric utility regulatory commission in the PJM control area.

Comment date: July 13, 2000, in accordance with Standard Paragraph E at the end of this notice.

15. Alliant Energy Corporate Services, Inc.

[Docket No. ER00-2928-000]

Take notice that on June 22, 2000, Alliant Energy Corporate Services, Inc., tendered for filing executed Service Agreements for short-term firm point-to-point transmission service and non-firm point-to-point transmission service, establishing The Legacy Energy Group, LLC as a point-to-point Transmission Customer under the terms of the Alliant Energy Corporate Services, Inc., transmission tariff.

Alliant Energy Corporate Services, Inc. requests an effective date of June 15, 2000, and accordingly, seeks waiver of the Commission's notice requirements. A copy of this filing has been served upon the Illinois Commerce Commission, the Minnesota Public Utilities Commission, the Iowa Department of Commerce, and the Public Service Commission of Wisconsin.

Comment date: July 13, 2000, in accordance with Standard Paragraph E at the end of this notice.

16. Entergy Services, Inc.

[Docket No. ER00-2929-000]

Take notice that on June 22, 2000, Entergy Services, Inc., on behalf of Entergy Louisiana, Inc., tendered for filing an Interconnection and Operating Agreement with Vulcan Chemical (Vulcan), and a Generator Imbalance Agreement with Vulcan.

Comment date: July 13, 2000, in accordance with Standard Paragraph E at the end of this notice.

17. Entergy Services, Inc.

[Docket No. ER00-2930-000]

Take notice that on June 22, 2000, Entergy Services, Inc., on behalf of Entergy Mississippi, Inc., tendered for filing an Interconnection and Operating Agreement with MissChem Nitrogen, L.L.C. (MissChem), and a Generator Imbalance Agreement with MissChem.

Comment date: July 13, 2000, in accordance with Standard Paragraph E at the end of this notice.

18. American Electric Power Service Corporation

[Docket No. ER00-2931-000]

Take notice that on June 22, 2000, American Electric Power Service Corporation (AEPSC), as agent for the operating utility subsidiaries of American Electric Power Company, Inc., tendered service agreements under which British Columbia Power Exchange Corporation (BC Power) will take service under the AEPSC Open Access Transmission Service Tariff.

AEPSC requests a May 23, 2000 effective date for the agreements. Accordingly, AEPSC requests waiver of the Commission's notice requirements.

AEPSC states that a copy of this filing has been served on BC Power and on affected state utility commissions.

Comment date: July 13, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-17164 Filed 7-6-00; 8:45 am]

BILLING CODE 6717-01-P